DEPARTMENT OF LABOR

Mine Safety and Health Administration

Proposed Information Collection Request Submitted for Public Comment and Recommendations; Mine Accident, Injury, and Illness Report (30 CFR 50.10; 50.11; and 50.20(a))

ACTION: Notice.

SUMMARY: The Department of Labor, as part of its continuing effort to reduce paperwork and respondent burden, conducts a preclerance consultations program to provide the general public and Federal agencies with an opportunity to comment on proposed and/or continuing collections of information in accordance with the Paperwork Reduction Act of 1995 (PRA95) [144 U.S.C. 3506(c)(2)(A)]. This program helps to ensure that requested data can be provided in the desired format, reporting burden (time and financial resources) is minimized, collection instruments are clearly understood, and the impact of collection requirements on respondents can be properly assessed.

DATES: Submit comments on or before July 1, 2002.

ADDRESSES: Send comments to David L. Meyer, Director, Office of Administration and Management, 4015 Wilson Boulevard, Room 615, 4015, Arlington, VA 222031984. Commenters are encouraged to send their comments on a computer disk, or via Internet e-mail to Meyer-David@msha.gov, along with an original printed copy. Mr. Meyer can be reached at (703) 235-1383 (voice), or (703) 235-1563 (facsimile).

FOR FURTHER INFORMATION CONTACT: Charlene N. Barnard, Regulatory Specialist, Records Management Division, U.S. Department of Labor, Mine Safety and Health Administration, Room 725, 4015 Wilson Boulevard, Arlington, VA 2203-1984. Ms. Barnard can be reached at barnard-charlene@msha.gov (Internet e-mail), (703) 235-1470 (voice) or (703) 235-1563 (fascimile).

SUPPLEMENTARY INFORMATION:

I. Background

The reporting and recordkeeping provisions in 30 CFR Subpart C—Reporting of Accidents, Injuries, and Illnesses are essential elements in MSHA's mandate to reduce work-related injuries and illnesses among the nation's miners. 30 CFR 50.10 requires that mine operators and contractors immediately notify MSHA of an accident; 30 CFR 50.11 requires that each accident and injury be investigated and a report prepared; 30 CFR 50.29(a) requires mine operators and contractors to report each incident on MSHA Form 7000-1 within 10 days of accident of injury.

II. Desired Focus of Comments

Currently, the Mine Safety and Health Administration (MSHA) is soliciting comments concerning the proposed extension of the information collection related to the Mine Accident, Injury, and Illness Report (MSHA Form 7000-1). MSHA is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

A copy of the proposed accessing the MSHA Home Page (http://www.msha.gov) and selecting “Statutory and Regulatory Information” then “Paperwork Reduction Act Submissions (http://www.msha.gov/regspwork.htm)”, or by contracting the employee listed above in the FOR FURTHER INFORMATION CONTACT section of this notice for a hard copy.

III. Current Actions

The information gathered from this collection is used to establish files of injury and employment date in order to measure the levels of injury experience and identify those areas most in need of improvement.

Type of Review: Extension.

Agency: Mine Safety and Health Administration.

Title: Mine Accident, Injury, and Illness Report (MSHA Form 7000-1).

OMB Number: 1219-0007.

Affected Public: Business or other for-profit.

Frequency: On occasion.

Record keeping: 5 years.

Cite/reference | Total respondents | Frequency | Total responses | Average time per response (hours) | Burden hours*
50.10 | 27,618 | On occasion | 1,872 | 0.50 | 937
50.11 | 27,618 | On occasion | 34,238 | 9 | 294,228
50.20 | 27,618 | On occasion | 29,309 | .44 | 12,852
Data mailers | 27,618 | On occasion | 27,866 | .25 | 6,967
Total | 27,618 |  | 65,419 | 5 | 314,984
* Discrepancies due to rounding.

Total Annualized Capital/Startup Costs: $0.

Total Operating and Maintenance Costs: $15,926.

Comments submitted in response to this notice will be summarized and/or included in the request for Office of Management and Budget approval of the information collection request; they will also become a matter of public record.

Dated: April 24, 2002.
David L. Meyer,
Director, Office of Administration and Management.

[FR Doc. 02-10639 Filed 4-29-02; 8:45 am]

BILLING CODE 4510-43-M